NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 2, 2012. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001. Email: request.schedule@nara.gov.

Fax: 301-837-3698.

Requesters must cite the control number, which appears in parentheses after the name of the agency which submitted the schedule, and must provide a mailing address. Those who desire appraisal reports should so indicate in their request.

FOR FURTHER INFORMATION CONTACT: Margaret Hawkins, Director, National Records Management Program (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Defense Threat Reduction Agency (N1-374-09-3, 2 items, 1 temporary item). Master files of an electronic information system used to monitor arms control agreements and treaties. Proposed for permanent retention are annual and semi-annual reports regarding arms control treaties and agreements.

2. Department of Defense, Defense Threat Reduction Agency (N1-374-09-4, 2 items, 2 temporary items). Master files of electronic information systems compiled from various sources to track and monitor the effects of past nuclear tests on Armed Forces personnel.

3. Department of Energy, Federal Energy Regulatory Commission (N1-138-12-2, 1 temporary item). Master files of an electronic information system used to track and maintain public subscriptions to documents issued by the Commission.

4. Department of Health and Human Services, Centers for Medicare & Medicaid Services (DAA-0440-2012-0004, 2 items, temporary items). Records of the Center for Program Integrity, including master files of an electronic information system and supplemental information related to claims data used in the detection and investigation of program fraud, waste, and abuse.

5. Department of Homeland Security, U.S. Citizenship and Immigration Services (N1-566-12-2, 1 item, 1 temporary item). Master files of an electronic information system used to track agency and public requests for records searches.

6. Department of Justice, National Drug Intelligence Center (N1-523-12-1, 1 item, 1 temporary item). Project files, including working papers relating to product reports.

7. Department of Labor, Office of the Secretary (N1-174-12-1, 1 item, 1 temporary item). Master files of an electronic information system used to manage and track an adjudicatory board appeal process.

8. Department of the Navy, United States Marine Corps (N1-NU-07-11, 4 items, 4 temporary items). Master files of an electronic information system used to track Congressional inquiries.

9. Department of Transportation, Federal Transit Administration (N1-408-11-14, 3 items, 3 temporary items). Records include audits reports and financial evaluations of contractor operations.

10. Department of Transportation, Federal Transit Administration (N1-408-11-16, 2 items, 2 temporary items). Copies of records maintained outside the office of primary responsibility, including policy development records for agency related legislation and regulations, as well as materials used to prep agency staff for Congressional testimony.

11. Department of Transportation, National Highway Traffic Safety Administration (N1-416-05-3, 15 items, 13 temporary items). Records of the Office of Defects and Investigation, including routine investigations and resolutions, petitions, and manufacturer correspondence. Proposed for permanent retention are significant investigations and manufacturer recall files.

12. Department of Transportation, Pipeline and Hazardous Materials Safety Administration (N1-571-11-1, 1 item, 1 temporary item). Continuity of operations plans maintained by the Office of Pipeline Safety.

13. Department of the Treasury, Internal Revenue Service (N1-58-09-50, 2 items, 1 temporary item). Routine reports of an electronic information system which tracks public laws and provisions which impact the agency. Proposed for permanent retention are the master files.

14. Department of the Treasury, Internal Revenue Service (N1-58-09-51, 2 items, 1 temporary item). Routine reports of an electronic information system which tracks actions needed to implement legislation impacting the Taxpayer Assistance Blueprint Initiative. Proposed for permanent retention are the master files.

15. Department of the Treasury, Internal Revenue Service (N1-58-09-54, 2 items, 1 temporary item). Routine reports of an electronic information system which tracks actions necessary to implement legislation impacting the Tax Gap Initiative. Proposed for permanent retention are the master files.

16. Department of Treasury, Internal Revenue Service (N1-58-12-2, 3 items, 3 temporary items). Master files, inputs, and system documentation of an electronic information system used to analyze taxpayer financial information relating to the use of illegal offshore accounts.

17. Department of Treasury, Internal Revenue Service (N1-58-12-3, 2 items, 2 temporary items). Master files and system documentation of an electronic information system containing tax shelter disclosure information.

18. Federal Communications Commission, Wireline Competition Bureau (N1-173-09-3, 1 item, 1 temporary item). Master files of an electronic information system containing results of telephone service customer satisfaction surveys.

19. Federal Communications Commission, Wireline Competition Bureau (N1-173-09-4, 1 item, 1 temporary item). Master files of an electronic information system used to report on trends in telephone industry infrastructure development.

20. Federal Communications Commission, Wireline Competition Bureau (N1-173-09-5, 1 item, 1 temporary item). Master files of an electronic information system used to monitor network growth, usage, and reliability of telephone service carriers.

21. Federal Retirement Thrift Investment Board, Office of Investments (N1-474-12-3, 2 items, 2 temporary items). Reports and tracking records of an electronic information system used to track investments and performance.

22. Federal Trade Commission, Agency-wide (N1-122-09-1, 23 items, 16 temporary items). Comprehensive schedule covering all aspects of agency work. Records relating to administrative and mission support functions; budget and financial administration; routine health, safety, and security; inspector general investigative background records and case files; and project files. Proposed for permanent retention are significant project files; documentation of the Commission's establishment, regulations, policy and organization including related deliberations and findings; final issuances; and inspector general final reports.

Dated: June 26, 2012.
Paul M. Wester, Jr.,
Chief Records Officer for the U.S. Government.

[FR Doc. 2012-16268 Filed 7-2-12; 8:45 am]

BILLING CODE 7515-01-P